DEPARTMENT OF TRANSPORTATION

Federal Aviation Administration

14 CFR Part 97

[Docket No. 31319 Amdt. No. 3911]

Standard Instrument Approach Procedures, and Takeoff Minimums and Obstacle Departure Procedures; Miscellaneous Amendments

AGENCY: Federal Aviation Administration (FAA), DOT.

ACTION: Final rule.

SUMMARY: This rule establishes, amends, suspends, or removes Standard Instrument Approach Procedures (SIAPs) and associated Takeoff Minimums and Obstacle Departure Procedures (ODPs) for operations at certain airports. These regulatory actions are needed because of the adoption of new or revised criteria, or because of changes occurring in the National Airspace System, such as the commissioning of new navigational facilities, adding new obstacles, or changing air traffic requirements. These changes are designed to provide safe and efficient use of the navigable airspace and to promote safe flight operations under instrument flight rules at the affected airports.

DATES: This rule is effective July 13, 2020. The compliance date for each SIAP, associated Takeoff Minimums, and ODP is specified in the amendatory provisions.

The incorporation by reference of certain publications listed in the regulations is approved by the Director of the Federal Register as of July 13, 2020.

ADDRESSES: Availability of matters incorporated by reference in the amendment is as follows:

For Examination

1. U.S. Department of Transportation, Docket Ops-M30, 1200 New Jersey Avenue SE, West Bldg., Ground Floor, Washington, DC 20590-0001.

2. The FAA Air Traffic Organization Service Area in which the affected airport is located;

3. The office of Aeronautical Navigation Products, 6500 South MacArthur Blvd., Oklahoma City, OK 73169 or,

4. The National Archives and Records Administration (NARA). For information on the availability of this material at NARA, email fedreg.legal@nara.gov or go to: https://www.archives.gov/federal-register/cfr/ibr-locations.html .

Availability

All SIAPs and Takeoff Minimums and ODPs are available online free of charge. Visit the National Flight Data Center at nfdc.faa.gov to register. Additionally, individual SIAP and Takeoff Minimums and ODP copies may be obtained from the FAA Air Traffic Organization Service Area in which the affected airport is located.

FOR FURTHER INFORMATION CONTACT: Thomas J. Nichols, Flight Procedures and Airspace Group, Flight Technologies and Procedures Division, Flight Standards Service, Federal Aviation Administration. Mailing Address: FAA Mike Monroney Aeronautical Center, Flight Procedures and Airspace Group, 6500 South MacArthur Blvd., Registry Bldg. 29, Room 104, Oklahoma City, OK 73169. Telephone: (405) 954-4164.

SUPPLEMENTARY INFORMATION: This rule amends Title 14 of the Code of Federal Regulations, Part 97 (14 CFR part 97), by establishing, amending, suspending, or removes SIAPS, Takeoff Minimums and/or ODPS. The complete regulatory description of each SIAP and its associated Takeoff Minimums or ODP for an identified airport is listed on FAA form documents which are incorporated by reference in this amendment under 5 U.S.C. 552(a), 1 CFR part 51, and 14 CFR part 97.20. The applicable FAA forms are FAA Forms 8260-3, 8260-4, 8260-5, 8260-15A, and 8260-15B when required by an entry on 8260-15A.

The large number of SIAPs, Takeoff Minimums and ODPs, their complex nature, and the need for a special format make publication in the Federal Register expensive and impractical. Further, airmen do not use the regulatory text of the SIAPs, Takeoff Minimums or ODPs, but instead refer to their graphic depiction on charts printed by publishers of aeronautical materials. Thus, the advantages of incorporation by reference are realized and publication of the complete description of each SIAP, Takeoff Minimums and ODP listed on FAA form documents is unnecessary. This amendment provides the affected CFR sections and specifies the types of SIAPs, Takeoff Minimums and ODPs with their applicable effective dates. This amendment also identifies the airport and its location, the procedure, and the amendment number.

Availability and Summary of Material Incorporated by Reference

The material incorporated by reference is publicly available as listed in the ADDRESSES section.

The material incorporated by reference describes SIAPS, Takeoff Minimums and/or ODPS as identified in the amendatory language for part 97 of this final rule.

The Rule

This amendment to 14 CFR part 97 is effective upon publication of each separate SIAP, Takeoff Minimums and ODP as Amended in the transmittal. Some SIAP and Takeoff Minimums and textual ODP amendments may have been issued previously by the FAA in a Flight Data Center (FDC) Notice to Airmen (NOTAM) as an emergency action of immediate flight safety relating directly to published aeronautical charts.

The circumstances that created the need for some SIAP and Takeoff Minimums and ODP amendments may require making them effective in less than 30 days. For the remaining SIAPs and Takeoff Minimums and ODPs, an effective date at least 30 days after publication is provided.

Further, the SIAPs and Takeoff Minimums and ODPs contained in this amendment are based on the criteria contained in the U.S. Standard for Terminal Instrument Procedures (TERPS). In developing these SIAPs and Takeoff Minimums and ODPs, the TERPS criteria were applied to the conditions existing or anticipated at the affected airports. Because of the close and immediate relationship between these SIAPs, Takeoff Minimums and ODPs, and safety in air commerce, I find that notice and public procedure under 5 U.S.C. 553(b) are impracticable and contrary to the public interest and, where applicable, under 5 U.S.C 553(d), good cause exists for making some SIAPs effective in less than 30 days.

The FAA has determined that this regulation only involves an established body of technical regulations for which frequent and routine amendments are necessary to keep them operationally current. It, therefore—(1) is not a “significant regulatory action” under Executive Order 12866;(2) is not a “significant rule” under DOT Regulatory Policies and Procedures (44 FR 11034; February 26,1979); and (3)does not warrant preparation of a regulatory evaluation as the anticipated impact is so minimal.

For the same reason, the FAA certifies that this amendment will not have a significant economic impact on a substantial number of small entities under the criteria of the Regulatory Flexibility Act.

List of Subjects in 14 CFR Part 97

Air Traffic Control, Airports, Incorporation by reference, Navigation (Air).

Issued in Washington, DC on June 26, 2020.
Robert C. Carty
Executive Deputy Director, Flight Standards Service.

Adoption of the Amendment

Accordingly, pursuant to the authority delegated to me, Title 14, Code of Federal Regulations, Part 97 (14 CFR part 97) is amended by establishing, amending, suspending, or removing Standard Instrument Approach Procedures and/or Takeoff Minimums and Obstacle Departure Procedures effective at 0901 UTC on the dates specified, as follows:

PART 97—STANDARD INSTRUMENT APPROACH PROCEDURES

1. The authority citation for part 97 continues to read as follows:

Authority: 49 U.S.C. 106(f), 106(g), 40103, 40106, 40113, 40114, 40120, 44502, 44514, 44701, 44719, 44721-44722.

2. Part 97 is amended to read as follows:

Effective 13 August 2020

West Memphis, AR, West Memphis Muni, VOR/DME-A, Amdt 6, CANCELLED

Sulphur, LA, Southland Field, VOR/DME-A, Amdt 2, CANCELLED

Norridgewock, ME, Central Maine ARPT of Norridgewock, VOR/DME RWY 3, Amdt 3, CANCELLED

Rockland, ME, Knox County Rgnl, NDB RWY 3, Orig-B, CANCELLED

Rockland, ME, Knox County Rgnl, NDB RWY 31, Orig-E, CANCELLED

South Haven, MI, South Haven Area Rgnl, VOR RWY 23, Amdt 11B, CANCELLED

Siler City, NC, Siler City Muni, VOR-A, Amdt 3, CANCELLED

Bennettsville, SC, Marlboro County Jetport-H E Avent Field, NDB RWY 7, Amdt 5A, CANCELLED

Greenwood, SC, Greenwood County, NDB RWY 27, Amdt 2, CANCELLED

Pickens, SC, Pickens County, VOR/DME-A, Amdt 1, CANCELLED

Burlington/Mount Vernon, WA, Skagit Rgnl, NDB RWY 11, Amdt 5A, CANCELLED

Juneau, WI, Dodge County, NDB RWY 2, Orig, CANCELLED

Madison, WI, Dane County Rgnl-Truax Field, VOR RWY 18, Amdt 1D, CANCELLED

Madison, WI, Dane County Rgnl-Truax Field, VOR RWY 21, Orig-A, CANCELLED

Madison, WI, Dane County Rgnl-Truax Field, VOR RWY 36, Orig-B, CANCELLED

Reedsburg, WI, Reedsburg Muni, VOR-A, Amdt 6, CANCELLED

Effective 10 September 2020

Aniak, AK, Aniak, NDB/DME RWY 29. Amdt 4, CANCELLED

Aniak, AK, Aniak, RNAV (GPS) RWY 29, Amdt 3

Deadhorse, AK, Deadhorse, ILS OR LOC RWY 6, Amdt 4

Deadhorse, AK, Deadhorse, LOC BC RWY 24, Orig

Port Heiden, AK, Port Heiden, ITAWU TWO, Graphic DP

Hollister, CA, Hollister Muni, RNAV (GPS) RWY 31, Amdt 1

Livermore, CA, Livermore Muni, ILS RWY 25R, Amdt 9A

Marina, CA, Marina Muni, RNAV (GPS) RWY 11, Amdt 2

Marina, CA, Marina Muni, RNAV (GPS) RWY 29, Amdt 2

Marina, CA, Marina Muni, VOR RWY 11, Amdt 2A, CANCELLED

Marina, CA, Marina Muni, VOR/DME RWY 29, Amdt 2C, CANCELLED

Monterey, CA, Monterey Rgnl, ILS OR LOC RWY 10R, Amdt 29A

Monterey, CA, Monterey Rgnl, RNAV (GPS) RWY 10R, Amdt 1A

San Jose, CA, Norman Y Mineta San Jose Intl, ILS OR LOC RWY 30L, ILS RYW 30L (SA CAT I), ILS RWY 30L (SA CAT II), Amdt 26

Hayden, CO, Yampa Valley, ILS OR LOC RWY 10, Orig-A

Boca Raton, FL, Boca Raton, RNAV (GPS) Y RWY 23, Amdt 1D

Bloomington/Normal, IL, Central IL Rgnl Arpt At Bloomington-Normal, ILS OR LOC RWY 2, Orig-D

Centralia, IL, Centralia Muni, RNAV (GPS) RWY 36, Amdt 1C

Chicago, IL, Chicago Midway Intl, Takeoff Minimums and Obstacle DP, Amdt 12A

Winnfield, LA, David G Joyce, RNAV (GPS) RWY 9, Orig-C

Baudette, MN, Baudette Intl, ILS OR LOC RWY 30, Amdt 1

Minneapolis, MN, Minneapolis-St Paul Intl/Wold-Chamberlain, LOC RWY 22, Amdt 1C

Minneapolis, MN, Minneapolis-St Paul Intl/Wold-Chamberlain, RNAV (GPS) RWY 22, Amdt 1C

Rush City, MN, Rush City Rgnl, NDB RWY 34, Orig-B

Rush City, MN, Rush City Rgnl, RNAV (GPS) RWY 34, Amdt 1

Thief River Falls, MN, Thief River Falls Rgnl, RNAV (GPS) RWY 4, Orig-A

Warroad, MN, Warroad Intl Memorial, ILS OR LOC RWY 31, Amdt 2

Warroad, MN, Warroad Intl Memorial, NDB RWY 31, Amdt 2A, CANCELLED

Warroad, MN, Warroad Intl Memorial, RNAV (GPS) RWY 13, Amdt 1A

Warroad, MN, Warroad Intl Memorial, RNAV (GPS) RWY 31, Orig-B

Ainsworth, NE, Ainsworth Rgnl, RNAV (GPS) RWY 13, Amdt 1

Ainsworth, NE, Ainsworth Rgnl, RNAV (GPS) RWY 17, Amdt 3

Ainsworth, NE, Ainsworth Rgnl, RNAV (GPS) RWY 31, Amdt 1

Ainsworth, NE, Ainsworth Rgnl, RNAV (GPS) RWY 35, Amdt 3

Jaffrey, NH, Jaffrey Airfield-Silver Ranch, Takeoff Minimums and Obstacle DP, Amdt 1A

Caldwell, NJ, Essex County, LOC RWY 22, Amdt 4B

Caldwell, NJ, Essex County, RNAV (GPS) RWY 22, Amdt 2B

New York, NY, John F Kennedy Intl, RNAV (GPS) Y RWY 13R, Orig-A, CANCELLED

Penn Yan, NY, Penn Yan, NDB RWY 28, Amdt 6E, CANCELLED

Guymon, OK, Guymon Muni, Takeoff Minimums and Obstacle DP, Amdt 1A

Bradford, PA, Bradford Rgnl, VOR RWY 14, Amdt 1, CANCELLED

Bradford, PA, Bradford Rgnl, VOR/DME RWY 14, Amdt 10, CANCELLED

Harrisburg, PA, Harrisburg/Capital City, Takeoff Minimums and Obstacle DP, Amdt 5

Isla De Vieques, PR, Antonio Rivera Rodriguez, Takeoff Minimums and Obstacle DP, Amdt 2A

Sumter, SC, Sumter, ILS OR LOC RWY 23, Amdt 1A

Sumter, SC, Sumter, RNAV (GPS) RWY 23, Amdt 1A

Gladewater, TX, Gladewater Muni, RNAV (GPS) RWY 14, Orig-C

Kenedy, TX, Kenedy Rgnl, VOR-A, Amdt 7A, CANCELLED

Blacksburg, VA, Virginia Tech/Montgomery Executive, LOC RWY 13, Amdt 2

Blacksburg, VA, Virginia Tech/Montgomery Executive, RNAV (GPS) RWY 13, Amdt 3

Blacksburg, VA, Virginia Tech/Montgomery Executive, RNAV (GPS) RWY 31, Amdt 1

Blacksburg, VA, Virginia Tech/Montgomery Executive, Takeoff Minimums and Obstacle DP, Amdt 6

Waynesboro, VA, Eagle's Nest, RNAV (GPS) RWY 6, Amdt 1A

Waynesboro, VA, Eagle's Nest, RNAV (GPS) RWY 24, Amdt 1A

Chetek, WI, Chetek Muni-Southworth, RNAV (GPS) RWY 17, Orig-F

Medford, WI, Taylor County, RNAV (GPS) RWY 27, Orig-A

Merrill, WI, Merrill Muni, RNAV (GPS) RWY 7, Amdt 1B

Merrill, WI, Merrill Muni, RNAV (GPS) RWY 25, Amdt 1A

Rice Lake, WI, Rice Lake Rgnl—Carl's Field, ILS OR LOC RWY 1, Orig-B

Shell Lake, WI, Shell Lake Muni, RNAV (GPS) RWY 14, Orig-B

Shell Lake, WI, Shell Lake Muni, RNAV (GPS) RWY 32, Orig-B

Bluefield, WV, Mercer County, RNAV (GPS) RWY 5, Orig-B

Wheeling, WV, Wheeling Ohio Co, RNAV (GPS) RWY 3, Amdt 1A

[FR Doc. 2020-15003 Filed 7-10-20; 8:45 am]

BILLING CODE 4910-13-P